COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List services to be furnished by nonprofit agencies employing persons who are blind or have other severe disabilities, and deletes from the Procurement List products and a service previously furnished by such agencies.

EFFECTIVE DATE: December 1, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On August 30, 2002, the Committee for Purchase From People Who Are Blind or Severely Disabled published notice (67 FR 55776) of proposed additions to the Procurement List. After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services of the Government.

2. The action will result in authorizing small entities to furnish the services to the Government.

3. There are no known regulatory alternatives which would accomplish the objectives of the Javits-Wagner-O'Day Act (41 U.S.C. 46-48c) in connection with the services proposed for addition to the Procurement List.

Accordingly, the following services are added to the Procurement List:

Services

Service Type/Location: Janitorial/Custodial, EPA, Standard Chlorine Site, Delaware City, New Castle, Delaware.

NPA: The Chimes, Inc., Baltimore, Maryland.

Contract Activity: Environmental Protection Agency, Philadelphia, Pennsylvania.

Service Type/Location: Janitorial/Custodial, Stewart Newburgh USARC, New Windsor, New York.

NPA: Occupations, Inc., Middletown, New York.

Contract Activity: 77th Regional Support Command, Fort Totten, New York.

Deletions

I certify that the following action will not have a significant impact on a substantial number of small entities. The major factors considered for this certification were:

1. The action will not result in any additional reporting, recordkeeping or other compliance requirements for small entities other than the small organizations that will furnish the products and service the Government.

2. The action will result in authorizing small entities to furnish the products and service to the Government.

3. There are no known regulatory alternatives which would accomplish the objectives of the Javits-Wagner-O'Day Act (41 U.S.C. 46-48c) in connection with the products and service proposed for deletion to the Procurement List.

After consideration of the relevant matter presented, the committee has determined that the products and service listed below are no longer suitable for procurement by the Federal Government under 41 U.S.C. 46-48c and 41 CFR 51-2.4.

Accordingly, the following products and service are deleted from the Procurement List:

Products

Product/NSN: Pocket Planning Set—2000.

7510-01-450-5423.

Product/NSN: Pocket Planning Set—2001

7510-01-450-5428.

Product/NSN: Pocket Planning Set—2002

7510-01-450-5435.

Product/NSN: Organizer, Day Planner, Travel Size

7530-00-D16-0057.

Product/NSN: 2000 Tabbed Monthly—3 hole

7510-01-463-0798.

Product/NSN: 2000 Tabbed Monthly—7 hole

7510-01-463-0799.

Product/NSN: Daymax Tabbed Monthly—7 hole

7510-01-463-0801.

Product/NSN: Daymax Tabbed Monthly—3 hole

7510-01-463-0803.

Product/NSN: Executive/Personal Time Management System—LE Black

7530-01-458-3130.

NPA: The Easter Seal Society of Western Pennsylvania, Pittsburgh, PA

Contract Activity: Office Supplies & Paper Products Acquisition Center, New York, New York.

Service

Service Type/Location: Janitorial/Custodial, U.S. Federal Building, Minneapolis, Minnesota.

NPA: Tasks Unlimited, Inc., Minneapolis, Minnesota.

Contract Activity: GSA, Public Buildings Service.

Sheryl D. Kennerly,
Director, Information Management.

[FR Doc. 02-27824 Filed 10-31-02; 8:45 am]

BILLING CODE 6353-01-P